ENVIRONMENTAL PROTECTION AGENCY

[FRL-7102-9]

Agency Information Collection Activities: Submission for OMB Review; Comment Request; Source Compliance and State Action Reporting

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Source Compliance and State Action Reporting, EPA ICR Number 0107.07; OMB Control No. 2060-0096; expiration date December 31, 2001. The ICR describes the nature of the information collection and its expected burden and cost.

DATES: Comments must be submitted on or before December 13, 2001.

ADDRESSES: Send comments, referencing EPA ICR No. 0107.07 and OMB Control No. 2060-0096, to the following addresses: Susan Auby, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Susan Auby at EPA by phone at (202) 260-4901, by E-mail at auby.susan@epamail.epa.gov, or download off the Internet at http://www.epa.gov/icr and refer to EPA ICR No. 0107.07. For technical questions about the ICR contact Mark Antell, (202) 565-5003 or via email at antell.mark@epa.gov.

SUPPLEMENTARY INFORMATION: Source Compliance and State Action Reporting; EPA ICR Number 0107.07; OMB Number 2060-0096; expiration date December 31, 2001.

Affected Entities: Entities potentially affected by this action are those State, District, Local, and Commonwealth governments that make air compliance information available to EPA on a quarterly basis via input to the AIRS Facility Subsystem (AFS) of the Aerometric Information Retrieval System (AIRS).

Abstract: Source Compliance and State Action Reporting is an activity whereby State, District, Local, and Commonwealth governments (hereafter referred to as “States/locals” or “State and local agencies”) make air compliance information available to the U.S. Environmental Protection Agency (EPA or the Agency) on a quarterly basis via input to the AIRS Facility Subsystem (AFS) of the Aerometric Information Retrieval System (AIRS). The information provided to EPA includes compliance activities and determinations, and enforcement activities. EPA uses this information to assess progress toward meeting emission requirements developed under the authority of the Clean Air Act (CAA or the Act) to protect and maintain the atmospheric environment and the public health. The EPA and many of the State and local agencies access the data in AFS to assist them in the management of their air pollution control programs. Much of this collection activity is authorized and required in the following subsections of regulations implementing the Clean Air Act under “Subpart Q—Reports” in 40 CFR 51: sections 51.323(c)(1), 51.323(c)(2), 51.324 (a) and (b), and 51.327. Some of the activity also is authorized by 40 CFR 70.4(j)(1), which addresses submittal of information to EPA by State and local agencies, and 40 CFR 70.10(c)(1)(iii), which addresses EPA oversight of State and local agencies' compliance and enforcement efforts for major sources under Title V operating permit programs. Much of the information also is necessary for EPA to provide adequate oversight for other Federal programs delegated to States, such as the New Source Performance Standards (NSPS) in 40 CFR Part 60, National Emission Standards for Hazardous Air Pollutants (NESHAP) in 40 CFR Part 61 and Part 63, and New Source Review (NSR) permitting regulations in 40 CFR Part 51 and Part 52. The information also relates to the State Implementation Plan recordkeeping and reporting provisions in 40 CFR 51.116. Finally, the information is necessary for EPA to fulfill its oversight responsibilities to ensure that State Implementation Plans (SIPs) fulfill the testing, enforcement, and inspection requirements of 40 CFR 51.212, on an ongoing basis.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on February 1, 2001, (66 FR 8588). EPA received ten comments.

Burden Statement: The annual public reporting and record keeping burden for this collection of information is estimated to average 240 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: State, Local, District and Commonwealth environmental agencies.

Estimated Number of Respondents: 89.

Frequency of Response: Quarterly.

Estimated Total Annual Hour Burden: 85,496 hours.

Estimated Total Annualized Capital, O&M Cost Burden: $0.

Send comments on the Agency's need for this information, the accuracy of the provided burden estimates, and any suggested methods for minimizing respondent burden, including through the use of automated collection techniques to the addresses listed above. Please refer to EPA ICR No. 0107.07 and OMB Control No. 2060-0096 in any correspondence.

Dated: November 1, 2001.
Oscar Morales,
Director, Collection Strategies Division.

[FR Doc. 01-28349 Filed 11-9-01; 8:45 am]

BILLING CODE 6560-50-P